DEPARTMENT OF THE INTERIOR

Bureau of Reclamation

Glen Canyon Dam Adaptive Management Work Group (AMWG)

AGENCY: Bureau of Reclamation, Interior.

ACTION: Notice of public meeting.

SUMMARY: The Glen Canyon Dam Adaptive Management Program (AMP) was implemented as a result of the Record of Decision on the Operation of Glen Canyon Dam Final Environmental Impact Statement to comply with consultation requirements of the Grand Canyon Protection Act (Pub. L. 102-575) of 1992. The AMP includes a Federal advisory committee, the Adaptive Management Work Group (AMWG), a Technical Work Group (TWG), a Grand Canyon Monitoring and Research Center, and independent review panels. The AMWG makes recommendations to the Secretary of the Interior concerning Glen Canyon Dam operations and other management actions to protect resources downstream of Glen Canyon Dam consistent with the Grand Canyon Protection Act. The TWG is a subcommittee of the AMWG and provides technical advice and recommendations to the AMWG.

DATES: Meeting dates are Wednesday, February 3, 2010, 9:30 a.m.-5:40 p.m., and Thursday, February 4, 2010, 8 a.m.-3 p.m.

ADDRESSES: Radisson Hotel Phoenix, 3600 North 2nd Avenue, Phoenix, AZ 85013.

FOR FURTHER INFORMATION CONTACT: Dennis Kubly, Bureau of Reclamation, telephone (801) 524-3715; facsimile (801) 524-3858; e-mail at dkubly@usbr.gov.

SUPPLEMENTARY INFORMATION: The primary purpose of the meeting will be for the AMWG to discuss previous high flow experiment results and development of a high flow experimental protocol as announced by Secretary of the Interior Ken Salazar on December 10, 2009. This meeting is intended to provide scoping information for the National Environmental Policy Act environmental assessment that will be used to evaluate the effects of the protocol. Other agenda items will include discussion on (1) the fall steady flow plan, (2) non-native fish control planning, (3) tribal issues, and (4) desired future conditions. The AMWG will also receive results from the Core Monitoring Plan and Socio-economic workshops, updates from the public outreach ad hoc group, and a report from the TWG Chair. In addition, other administrative and resource issues pertaining to the AMP may be discussed as necessary. To view a copy of the agenda and documents related to the above meeting, please visit Reclamation's Web site at: http://www.usbr.gov/uc/rm/amp/amwg/mtgs/10feb03/index.html. Time will be allowed at the meeting for any individual or organization wishing to make formal oral comments. To allow for full consideration of information by the AMWG members, written notice must be provided to Dennis Kubly, Bureau of Reclamation, Upper Colorado Regional Office, 125 South State Street, Room 6107, Salt Lake City, Utah 84138; telephone 801-524-3715; facsimile 801-524-3858; e-mail at dkubly@usbr.gov at least five (5) days prior to the meeting. Any written comments received will be provided to the AMWG members.

Before including your name, address, phone number, e-mail address, or other personal identifying information in any correspondence, you should be aware that your entire correspondence—including your personal identifying information—may be made publicly available at any time. While you can ask us in your correspondence to withhold your personal identifying information from public review, we cannot guarantee that we will be able to so do.

Dated: December 21, 2009.
Thomas P. Ryan,
Manager, Environmental Resources Division, Upper Colorado Regional Office, Salt Lake City, Utah.

[FR Doc. E9-31365 Filed 1-4-10; 8:45 am]

BILLING CODE 4310-MN-P